DEPARTMENT OF HEALTH AND HUMAN SERVICES

Food and Drug Administration

21 CFR Part 1

[Docket No. 02N-0276]

[RIN 0910-AC40]

Registration of Food Facilities Under the Public Health Security and Bioterrorism Preparedness and Response Act of 2002; Correction

AGENCY: Food and Drug Administration, HHS.

ACTION: Notice of proposed rulemaking; correction.

SUMMARY: The Food and Drug Administration (FDA) is correcting a notice of proposed rulemaking that appeared in the Federal Register of February 3, 2003 (68 FR 5378). The document proposed a regulation that would require domestic and foreign facilities that manufacture, process, pack, or hold food for human and animal consumption in the United States to register with FDA by December 12, 2003. Due to a printing error, the document was published with inadvertent errors in the appendix. This document corrects those errors.

FOR FURTHER INFORMATION CONTACT: Joyce Strong, Office of Policy (HF-27), Food and Drug Administration, 5600 Fishers Lane, Rockville, MD 20857, 301-827-7010.

SUPPLEMENTARY INFORMATION: In FR Doc. 03-2443, appearing on page 5378, at page 5421, in the Federal Register of Monday, February 3, 2003, the appendix, which is a draft food facility registration form, has several errors. For the convenience of the reader, we are republishing the appendix.

Dated: February 21, 2003.
William K. Hubbard,
Associate Commissioner for Policy and Planning.

Note: The following appendix will not appear in the Code of Federal Regulations.

BILLING CODE 4160-01-C

[FR Doc. 03-5203 Filed 3-5-03; 8:45 am]

BILLING CODE 4160-01-S